DEPARTMENT OF EDUCATION

Smaller Learning Communities Program

AGENCY: Office of Elementary and Secondary Education, Department of Education.

ACTION: Notice of final priority, requirements, and selection criteria for fiscal year (FY) 2006 and subsequent years' funds.

SUMMARY: The Acting Assistant Secretary for Elementary and Secondary Education announces a priority, requirements, and selection criteria under the Smaller Learning Communities (SLC) program. The Acting Assistant Secretary will use the priority, requirements, and selection criteria, in addition to any other previously established priorities and requirements, for a competition using fiscal year (FY) 2006 funds and may use them in later years. We take this action to focus Federal financial assistance on an identified national need. We intend the priority, requirements, and selection criteria to enhance the effectiveness of SLC projects in improving academic achievement and the preparation of students for postsecondary education and careers.

EFFECTIVE DATE: The priority, requirements, and selection criteria are effective June 18, 2007.

FOR FURTHER INFORMATION CONTACT: Gregory Dennis, U.S. Department of Education, 400 Maryland Avenue, SW., room 3W243, Washington, DC 20202-6200. Telephone: (202) 205-3784 or via Internet: smallerlearningcommunities@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

General

The SLC program is authorized under Title V, Part D, Subpart 4 of the Elementary and Secondary Education Act of 1965 (ESEA) (20 U.S.C. 7249), as amended by the No Child Left Behind Act of 2001. It awards discretionary grants to local educational agencies (LEAs) to support the implementation of SLCs and activities to improve student academic achievement in large public high schools with enrollments of 1,000 or more students. SLCs include structures such as freshman academies, multi-grade academies organized around career interests or other themes, “houses” in which small groups of students remain together throughout high school, and autonomous schools-within-a-school, as well as personalization strategies, such as student advisories, family advocate systems, and mentoring programs. As used in this notice, the terms smaller learning community, large high school, and BIE school have the meanings assigned to them in the notice of final priority, requirements, definitions, and selection criteria (NFP) for this program, published in the Federal Register on April 28, 2005 (70 FR 22233).

Evidence from recently completed evaluations suggests that SLCs are most likely to be successful in raising academic achievement and improving other student outcomes if their implementation is integrated closely with improvements in curriculum and instruction. Since earning a bachelor's degree or higher is now the goal of an overwhelming majority of high school students, regardless of their race, gender, ethnicity, or family income, the focus of these efforts should be on preparing all students to succeed in postsecondary education and careers without need for remediation.

Currently, too many young people do not receive the academic preparation, guidance, and support they need to achieve their ambitious educational aspirations. Many students lack a clear understanding of the academic requirements for entrance to postsecondary education, how to apply for postsecondary education, or options for financial aid. Most importantly, considerable numbers of young people are graduating from high school without the academic foundation needed to succeed in postsecondary education. Consequently, a significant number of students begin their postsecondary education by enrolling in one or more remedial reading, writing, or mathematics courses (NCES, 2004).

We published a notice of proposed priority, requirements, and selection criteria (NPP) for this program in the Federal Register on March 8, 2007 (72 FR 10502). We discussed our proposals for this program in the NPP on pages 10502-10506.

This notice of final priority, requirements, and selection criteria contains several changes from the NPP. We fully explain these changes in the Analysis of Comments and Changes section that follows.

Analysis of Comments and Changes

In response to our invitation in the NPP, 11 parties submitted comments. An analysis of the comments and of any changes in the priority, requirements, and selection criteria follows. We group major issues according to subject.

Generally, we do not address technical and other minor changes and suggested changes we are not authorized to make under the applicable statutory authority. We also do not address comments related to definitions, such as the definition of a large high school, and requirements that were established in the NFP for this program in the Federal Register on April 28, 2005 (70 FR 22233) because we did not seek public comment on these provisions.

Proposed Priority

Comment: One commenter contended that the priority is focused exclusively on academic preparation for postsecondary education and careers and recommended that it be amended to include activities related to career exploration and career and technical education, such as internships, school-based enterprises, and certificate programs that integrate technical and academic content.

Discussion: The priority focuses on academic preparation for postsecondary education and careers because many young people, including, particularly, low-income and minority youth, leave high school without the rigorous academic foundation they need to pursue these goals. In contrast, nearly every student who leaves high school has participated in career and technical education (National Assessment of Vocational Education, 2004). Moreover, under paragraph (5) of the priority, an applicant could propose to include career academies or career and technical education courses that offer students the opportunity to earn postsecondary credit. For example, an agriculture-themed career academy could include Advanced Placement Biology, Chemistry, and Environmental Science courses. A dual credit pre-engineering course offered in conjunction with a local college or university also could be proposed under the priority.

Changes: None.

Comment: One commenter recommended that we establish a competitive priority for LEAs and schools that have been identified as in need of improvement under Title I of the ESEA.

Discussion: We agree that LEAs and schools that have been identified as in need of improvement merit special consideration in many of the Department's discretionary grant competitions. For this reason, we established a priority for LEAs with schools in need of improvement, corrective action, or restructuring in the Federal Register on October 11, 2006 (71 FR 60045). This priority may be used for any appropriate discretionary grant program, including the SLC program, in FY 2007 and FY 2008.

Changes: None.

Types of Grants

Comment: One commenter asked us to clarify whether an implementation grant could be awarded to support a project in which a large high school is closed and reconstituted as a set of autonomous SLCs.

Discussion: Implementation grants support the creation or expansion of an SLC or SLCs within a large high school. This includes projects in which a large high school will be closed and reconstituted during the performance period as a set of autonomous SLCs, which may be located on the same site as the large high school or in other locations. At the time of application and award, all large high schools to be served must meet the definition of large high school; any closing and reconstitution as described above must happen after the award.

Changes: None.

Comment: One commenter noted that successful SLC implementation requires significant prior planning and recommended that we offer grants to LEAs to support planning activities.

Discussion: While we agree that significant prior planning is important, we do not agree that it is necessary for the Department to award grants for this purpose. We believe it is reasonable to expect that prospective applicants will carry out these planning activities using their own funds, or with funds from other sources. The Department administers many other discretionary grant programs that also require significant prior planning by applicants but that do not award planning grants to support these activities.

Changes: None.

Budget Information for Determination of Award

Comment: One commenter recommended that we limit the number of schools that may be included in an LEA's application to five, rather than ten, as we had proposed. The commenter maintained that permitting LEAs to include as many as ten schools would give larger LEAs an unfair competitive advantage over smaller and medium-sized LEAs and would make it likely that all or most of the available grant funds would be awarded to LEAs that included ten schools in their applications. The commenter also expressed concern that a grant that included as many as ten schools would be difficult for an LEA to manage effectively.

Discussion: Permitting LEAs to include as many as ten schools in their applications has not given larger LEAs a competitive advantage over smaller and medium-sized LEAs in recent SLC grant competitions. Only eight of the 51 grants we awarded with FY 2005 funds included more than five schools, and only three of these included ten schools. Only four of the 70 grants we awarded with FY 2004 funds included more than five schools, and only two of these included ten schools. The average number of schools included in grants made in both years is three. However, the commenter's concern that an LEA may have difficulty managing effectively a grant that includes as many as ten schools does have merit. The proposed priority promotes the integration of SLC implementation with comprehensive efforts to improve curriculum and instruction and student preparation for postsecondary education. This is challenging work, and ongoing support and technical assistance from an LEA will be critical to each school's success. We also have proposed larger grant award amounts than we offered in previous SLC competitions. An LEA that includes ten schools in its application could receive up to $17.5 million for a 60-month project period, nearly $6 million more than it could have received in last year's competition. For these reasons, we agree that reducing the number of schools that an LEA may include in its application is appropriate and prudent.

Changes: We have reduced the maximum number of schools an LEA may include in its application from ten to eight.

Comment: One commenter disagreed with our proposal to determine maximum award amounts on the basis of the number of students enrolled in each high school included in an application. The commenter recommended that our proposed maximum award amount of $1,750,000 be available to every eligible high school, regardless of its enrollment.

Discussion: As we have in previous SLC competitions, we proposed to use student enrollment to determine maximum grant award amounts because there is a clear relationship between student enrollment and the costs of implementing SLC projects. All SLC projects, for example, typically include extensive professional development activities. During the 2004-05 school year, public high schools with enrollments between 1,000 to 2,000 students had an average of 83 full-time equivalent (FTE) teachers, while public high schools with 2,001 to 3,000 students had an average of 120 FTE teachers (National Center for Education Statistics, Common Core of Data). Providing professional development for 120 teachers is clearly more costly than serving 83 teachers. The relationship between student enrollment and the costs of curricula, assessments, external technical assistance, student guidance and support services, and other activities is similarly evident. Accordingly, we decline to make the change proposed by the commenter.

Changes: None.

Comment: One commenter objected to our proposal to award grants for up to a 60-month project period, with funding for the first 36 months provided in a single award from the FY 2006 appropriation and funding for the remaining 24 months provided in a second award in FY 2009, contingent upon the availability of appropriations and the grant recipient's demonstration of substantial progress in implementing its project objectives. The commenter was concerned that our proposal did not guarantee that grant recipients would receive continuation awards for the final 24 months of the 60-month project period and, for this reason, recommended that we award grants for a 36-month project period only.

Discussion: In 2005, we increased the project period for SLC grants from 36 to up to 60 months in response to recommendations we received from grant recipients and individuals with expertise in leading or supporting high school reform and improvement efforts. They argued persuasively that LEAs and schools needed a minimum of 60 months to implement systemic, sustainable reforms. Our proposal to condition continuation awards on the availability of appropriations and the grant recipient's progress in implementing the project is common among discretionary grant programs administered by the Department and ensures that multi-year grants do not receive continued funding unless they can provide evidence that they are making sufficient progress.

Changes: None.

Comment: One commenter recommended that we permit an LEA to retain a portion of the SLC grant for district-level activities.

Discussion: We did not propose to prohibit or limit the use of SLC grant funds for activities carried out at the district level, provided that these activities support the implementation of the project by the schools included in the application. While we proposed using student enrollment in each high school included in an application to determine maximum grant award amounts, an LEA is not required to provide each school in an application with all of the funds that its enrollment generates. Districts can play an important role in supporting the work of teachers and school administrators, and there are some activities that may be more appropriately or economically carried out at the district level. These activities could include, for example, implementing data and assessment systems and analytic tools that can be used by the staff of the schools included in the application to monitor student progress and improve instruction or providing curriculum pacing guides, sample lessons and other instructional supports. We leave to each applicant to decide how best to address the program requirements, priority, and selection criteria, including the amount of funds it proposes to use for district-level activities that support the implementation of the project serving the schools included in the application. Funds may not be used, however, for district-level activities that serve schools that are not included in the application or for general, district-wide high school reform initiatives.

Changes: None.

Performance Indicators

Comment: One commenter recommended that we revise the proposed performance indicator for student enrollment in postsecondary education to include enrollment in advanced training and apprenticeships as well.

Discussion: We agree that enrollment in advanced training or a registered apprenticeship program is an outcome that is consistent with the purpose of this indicator. Registered apprenticeship programs, for example, combine structured on-the-job training with classroom instruction that is often offered by a community college and articulated with a postsecondary certificate or associate's degree program.

Change: We revised the indicator to include, in addition to student enrollment in postsecondary education, enrollment in advanced training or a registered apprenticeship program.

Comment: One commenter recommended that we require grant recipients to collect and report data for an indicator that measured student success in achieving employment- or career-related outcomes, such as placement in employment, attainment of a technical certificate, or participation in work-related experiences during high school.

Discussion: We agree that there are a variety of other indicators that may be useful to applicants in gauging their progress in implementing their projects. We encourage applicants to include in their applications additional indicators that they consider appropriate. However, in the interests of limiting burden on applicants and grant recipients, we decline to establish any additional mandatory performance indicators.

Changes: None.

Required Meetings Sponsored by the Department

Comment: One commenter recommended that we require applicants to set aside funds within their proposed budgets to attend Department meetings in each year of the project period, rather than in the first and second years only, as we had proposed. The commenter indicated that meetings should be offered on an annual basis because they are helpful to project directors.

Discussion: We agree that annual meetings would be helpful to grant recipients in implementing their projects. Change: We revised the requirement to direct applicants to set aside funding to attend annual meetings hosted by the Department.

Comment: None.

Discussion: We proposed requiring applicants to set aside funds in the first year of the project period to support the participation of five key staff in a two-day regional institute, in addition to a meeting for project directors. During intradepartmental review, we determined that this requirement is inconsistent with our intent, which is to include several staff from each high school included in a grant. Five staff will be insufficient if a grant includes six high schools. Similarly, five staff may be excessive for a grant that includes a single high school. We also determined that describing this meeting as a regional event was inaccurate because our current expectation is that these meetings will be held in Washington, DC.

Change: We revised the requirement to direct applicants to set aside funds to support the participation of at least two individuals from each high school included in an application in technical assistance meetings hosted by the Department in Washington, DC.

Previous Grantees

Comment: None.

Discussion: We proposed to allow an LEA to apply only on behalf of a school or schools that will not receive funds through an SLC implementation grant that has a performance period that extends beyond the current fiscal year. During intradepartmental review, we determined that our reference to a school's receipt of funds was ambiguous and could be interpreted in ways that are not consistent with our intent. An LEA can provide many services and supports to a school that is included in an application without transferring funds to the school. An LEA, for example, may purchase professional development services on behalf of a school, rather than provide the school with funds to purchase these services. In proposing this limitation, our intent was to exclude any high school that is included in an SLC grant with a performance period that extends beyond the current fiscal year, regardless of whether the high school actually receives grant funds from the LEA.

Change: We revised the limitation to permit an LEA to apply only on behalf of a school or schools that is not included in an SLC implementation grant that has a performance period that extends beyond the current fiscal year.

Selection Criteria

Comment: One commenter expressed concern about a proposed selection criterion under Quality of Project Design that evaluates an applicant's readiness to implement its proposed project during the school year in which the grant award is made. Noting that grant awards are likely to be made after the start of the 2007-08 school year, the commenter asked us to clarify the types of activities we expected grant recipients to undertake during the school year in which the grant is awarded.

Discussion: The commenter is correct that grant awards are likely to be made after the start of the 2007-08 school year. Given this, we do not expect grant recipients to implement immediately activities, such as creating freshman academies or other structures, that require changes in teacher assignments, student scheduling, and course offerings. However, there are a wide variety of other implementation activities that a grant recipient can carry out during the 2007-08 school year, such as professional development, piloting new curricula, and enhancing academic support services for students. In designing their proposed projects, applicants should take the expected date of the grant award into account, and identify substantive activities that they will be able to implement during the 2007-08 school year. Applications in which first year activities are limited to planning only are unlikely to be rated highly on the selection criterion that evaluates implementation readiness.

Changes: None.

Comment: One commenter recommended that we require applicants to describe how students will be selected or placed in an SLC to assure that these placements are not made on the basis of students' test scores or perceptions of their ability. The commenter also recommended including this requirement in the selection criteria and awarding points to applicants on the basis of their responses.

Discussion: The description recommended by the commenter is one that, by statute, all applicants must provide. Since the statute prohibits projects from placing students in SLCs on the basis of their ability or pursuant to testing or other judgments, it is not appropriate to make this a selection criterion.

Changes: None.

Comments: One commenter recommended that we establish a selection criterion that evaluates the extent to which an applicant will place all students in an SLC by the end of the project period. Another commenter asked that we clarify whether projects are required to include all students in SLCs. A third commenter asked if the requirement that an SLC project include all students by the end of the fifth year of the project period means that projects must assign all students to academies or other smaller organizational units within a school.

Discussion: In the notice of final priority, requirements, definitions, and selection criteria (NFP) published in the Federal Register on April 28, 2005 (70 FR 22233), we established a requirement that SLC projects include all students by no later than the end of the fifth year of the project. We also defined an SLC as an environment in which a group of teachers and other adults within the school knows the needs, interests, and aspirations of each student well, closely monitors each student's progress, and provides the academic and other support each student needs to succeed. We did not propose any changes to the requirement or the SLC definition or seek public comment on them in the NPP. It is clear from the comments we received, however, that there is confusion about their meaning. We do not prescribe how an applicant creates the environment of strong academic and personal support described by the SLC definition, or how it provides this environment for all students. While we expect that SLC projects will include a structural component, such as an academy, we do not require projects to assign all students to academies, “houses,” or other smaller organizational units. Depending upon the circumstances and needs of a particular school and its students, there may be a variety of ways to create an environment in which all students receive strong personal and academic support. Thus, for example, an applicant could propose a project that places all entering ninth graders in a freshman academy to support their transition to high school, and establish teacher advisories or mentoring programs to create an environment of academic and personal support for all students in the upper grades. Another applicant might decide to propose a project in which all students in a school are assigned to theme-based academies. Finally, in the NPP, we proposed a selection criterion under Quality of Project Services that evaluates the likely effectiveness of the proposed project in creating for all students the environment described in the SLC definition so we do not believe any further change is necessary.

Changes: None.

Comment: One commenter urged us to revise the selection criteria to encourage applicants to align their proposed project with activities they carry out with funds provided under the Safe and Drug-Free Schools and Communities Act, which is authorized by Title IV of the ESEA.

Discussion: We agree that applicants should seek to utilize funds provided under Title IV of ESEA and other Federal programs in which they participate. For this reason, we proposed a selection criterion under Support for Implementation that evaluates the extent to which an applicant will support the proposed project with funds provided under Federal and State programs, as well as local cash and in-kind resources. We decline, however, to highlight specific Federal programs because there are numerous programs in which applicants may be participating.

Changes: None.

Note: This notice does not solicit applications. In any year in which we choose to use this priority, we invite applications through a notice in the Federal Register. A notice soliciting applications for new awards for the SLC program with fiscal year 2006 funds is published elsewhere in this issue of the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority

Preparing All Students To Succeed in Postsecondary Education and Careers

This priority supports projects that create or expand SLCs that are part of a comprehensive effort to prepare all students to succeed in postsecondary education and careers without need for remediation.

In order to meet this priority an applicant must demonstrate that, using SLC grant funds or other resources, it will:

(1) Provide intensive interventions to assist students who enter high school with reading/language arts or mathematics skills that are significantly below grade level to “catch up” quickly and attain proficiency by the end of 10th grade;

(2) Enroll students in a coherent sequence of rigorous English language arts, mathematics, and science courses that will equip them with the skills and content knowledge needed to succeed in postsecondary education and careers without need for remediation;

(3) Provide tutoring and other academic supports to help students succeed in rigorous academic courses;

(4) Deliver comprehensive guidance and academic advising to students and their parents that includes assistance in selecting courses and planning a program of study that will provide the academic preparation needed to succeed in postsecondary education, early and ongoing college awareness and planning activities, and help in identifying and applying for financial aid for postsecondary education; and

(5) Increase opportunities for students to earn postsecondary credit through Advanced Placement courses, International Baccalaureate courses, or dual credit programs.

Application Requirements

Application Requirements

The Acting Assistant Secretary announces the following application requirements for the SLC competition. These requirements are in addition to the content that all SLC grant applicants must include in their applications as required by the program statute under Title V, Part D, Subpart 4, Section 5441(b) of the ESEA, and the application requirements we established in the NFP for this program, published in the Federal Register on April 28, 2005 (70 FR 22233) in the following areas: Eligibility; School Report Cards; Consortium Applications and Educational Service Agencies; Student Placement; Including All Students; and Evaluation. LEAs, including BIE schools and educational service agencies, applying on behalf of large public high schools, are eligible to apply for a grant.

1. Types of Grants

We will award implementation grants to applicants to support the creation or expansion of an SLC or SLCs within each targeted high school during the school year in which funds are first awarded.

Grants will be awarded for a period up to 60 months. We require applicants to provide detailed, yearly budget information for the total grant period requested. At the time of the initial award, the Department will provide funds for the first 36 months of the performance period. Funding for the remaining 24 months will be contingent on the availability of funds and each grantee's substantial progress toward accomplishing the goals and objectives of the project as described in its approved application.

2. Budget Information for Determination of Award

LEAs may receive, on behalf of a single school, up to $1,750,000, depending upon student enrollment in the school, during the 60-month project period. To ensure that sufficient funds are available to support awards to LEAs of all sizes, and not only the largest LEAs, we limit to eight the number of schools that an LEA may include in a single application for a grant. LEAs applying on behalf of a group of eligible schools thus could receive up to $14,000,000 per grant.

The following chart provides the ranges of awards per high school size:

SLC Grant Award Ranges
Student enrollment | Award ranges per school
1,000-2,000 Students | $1,000,000-$1,250,000
2,001-3,000 Students | $1,000,000-$1,500,000
3,001 and Up Students | $1,000,000-$1,750,000

The actual size of awards will be based on a number of factors, including the scope, quality, and comprehensiveness of the proposed project, and the range of awards indicated in the application.

Applications that request more funds than the maximum amounts specified for any school or for the total grant will not be read as part of the regular application process. However, if, after the Secretary selects applications to be funded, it appears that additional funds remain available, the Secretary may choose to read those additional applications that requested funds exceeding the maximum amounts specified. If the Secretary chooses to fund any of those additional applications, applicants will be required to work with the Department to revise their proposed budgets to fit within the appropriate funding range.

3. Indirect Costs

Eligible applicants that propose to use SLC grant funds for indirect costs must include, as part of their applications, a copy of their approved indirect cost agreement.

4. Performance Indicators

We require applicants to identify in their application specific performance indicators and annual performance objectives for each of these indicators. Specifically, we require applicants to use the following performance indicators to measure the progress of each school:

(1) The percentage of students who score at or above the proficient level on the reading/language arts and mathematics assessments used by the State to determine whether a school has made adequate yearly progress under part A of Title I of the ESEA, as well as these percentages disaggregated by subject matter and the following subgroups:

(A) Major racial and ethnic groups;

(B) Students with disabilities;

(C) Students with limited English proficiency; and

(D) Economically disadvantaged students.

(2) The school's graduation rate, as defined in the State's approved accountability plan for Part A of Title I of the ESEA; and

(3) The percentage of graduates who enroll in postsecondary education, advanced training, or a registered apprenticeship program in the semester following high school graduation.

Applicants must include in their applications baseline data for each of these indicators and identify performance objectives for each year of the project period. We further require recipients of grant funds to report annually on the extent to which each school achieves its performance objectives for each indicator during the preceding school year. We require grantees to include in these reports comparable data, if available, for the preceding three school years so that trends in performance will be more apparent.

5. Required Meetings Sponsored by the Department

Applicants must set aside adequate funds within their proposed budget to send their project director and at least two individuals from each school included in the application to a two-day technical assistance meeting in Washington, DC, in each year of the project period. The Department will host these meetings.

Previous Grantees

An LEA may apply only on behalf of a school or schools that is not included in an SLC implementation grant that has a performance period that extends beyond the current fiscal year (September 30, 2007).

Selection Criteria

The following selection criteria will be used to evaluate applications for new grants under this program. We may apply these selection criteria to any SLC competition in the future.

Need for the Project

In determining the need for the proposed project, we will consider the magnitude of the need for the services that will be provided and the activities that will be carried out by the proposed project.

Quality of the Project Design

In determining the quality of the design of the proposed project, we will consider the extent to which—

(1) Teachers, school administrators, parents and community stakeholders support the proposed project and have been and will continue to be involved in its development and implementation;

(2) The applicant has carried out sufficient planning and preparatory activities to enable it to implement the proposed project during the school year in which the grant award will be made;

(3) School administrators, teachers, and other school employees will receive effective, ongoing technical assistance and support in implementing structural and instructional reforms;

(4) The applicant will offer all students a coherent sequence of rigorous English language arts, mathematics, and science courses that will provide students with the knowledge and skills needed to succeed in postsecondary education and careers without need for remediation; and

(5) The proposed project is part of a districtwide strategy for high school redesign and strengthens the district's capacity to develop and implement smaller learning communities and improve student academic achievement as part of that strategy.

Quality of Project Services

In determining the quality of the services to be provided by the proposed project, we will consider the extent to which the proposed project is likely to be effective in—

(1) Creating an environment in which a core group of teachers and other adults within the school know the needs, interests, and aspirations of each student well, closely monitor each student's progress, and provide the academic and other support each student needs to succeed;

(2) Equipping all students with the reading/English language arts, mathematics, and science knowledge and skills they need to succeed in postsecondary education and careers without need for remediation;

(3) Helping students who enter high school with reading/English language arts or mathematics skills that are significantly below grade-level “catch up” quickly and attain proficiency by the end of the 10th grade;

(4) Providing teachers with the professional development, coaching, regular opportunities for collaboration with peers, and other supports needed to implement a rigorous curriculum and provide high-quality instruction;

(5) Increasing the participation of students, particularly low-income students, in Advanced Placement, International Baccalaureate, or dual credit courses; and

(6) Increasing the percentage of students who enter postsecondary education in the semester following high school graduation.

Support for Implementation

In determining the adequacy of the support the applicant will provide for implementation of the proposed project, we will consider the extent to which—

(1) The management plan is likely to achieve the objectives of the proposed project on time and within budget and includes clearly defined responsibilities and detailed timelines and milestones for accomplishing project tasks;

(2) The project director and other key personnel are qualified to carry out their responsibilities, and their time commitments are appropriate and adequate to implement the SLC project effectively;

(3) The applicant will support the proposed project with funds provided under other Federal or State programs and local cash or in-kind resources; and

(4) The requested grant amount and the project costs are sufficient to attain project goals and reasonable in relation to the objectives and design of the project.

Quality of the SLC Project Evaluation

In determining the quality of the proposed project evaluation to be conducted by an independent, third-party evaluator, we consider the extent to which—

(1) The evaluation will provide timely, regular, and useful feedback to the LEA and the participating schools on the success and progress of implementation, and identify areas for needed improvement; and

(2) The independent evaluator is qualified to conduct the evaluation.

Executive Order 12866

This notice of final priority, requirements, and selection criteria has been reviewed in accordance with Executive Order 12866. Under the terms of the order, we have assessed the potential costs and benefits of this regulatory action.

The potential costs associated with this notice of final priority, requirements, and selection criteria are those resulting from statutory requirements and those we have determined as necessary for administering this program effectively and efficiently.

In assessing the potential costs and benefits—both quantitative and qualitative—of this notice of final priority, requirements, and selection criteria, we have determined that the benefits of the final priority, requirements, and selection criteria justify the costs.

We have also determined that this regulatory action does not unduly interfere with State, local, and tribal governments in the exercise of their governmental functions.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.215L, Smaller Learning Communities Program)

Program Authority: 20 U.S.C. 7249.

Dated: May 15, 2007.
Kerri L. Briggs,
Acting Assistant Secretary for Elementary and Secondary Education.

[FR Doc. 07-2476 Filed 5-16-07; 8:45 am]

BILLING CODE 4000-01-P